COMMITTEE FOR PURCHASE FROM PEOPLE WHO ARE BLIND OR SEVERELY DISABLED

Procurement List; Proposed Additions

AGENCY: Committee for Purchase From People Who Are Blind or Severely Disabled.

ACTION: Proposed additions to the procurement list.

SUMMARY: The Committee is proposing to add products to the Procurement List that will be furnished by nonprofit agencies employing persons who are blind or have other severe disabilities.

DATES: Comments must be received on or before: May 4, 2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

PRODUCT NAMEs/NSNs:

Hearing Protection, Over-the-Head Earmuff, NRR 30dB/4240-00-SAM-0025

Hearing Protection, Behind-the-Head Earmuff, NRR 30dB/4240-00-SAM-0026

Hearing Protection, Behind-the-Head Earmuff, NRR 30dB/4240-00-NSH-0019

Hearing Protection, Over-The-Head Earmuff, NRR 30dB/4240-01-534-3386

MANDATORY FOR PURCHASE BY: Total Government Requirement

MANDATORY SOURCE OF SUPPLY: Access: Supports for Living Inc., Middletown, NY

CONTRACTING ACTIVITY: Defense Logistics Agency Troop Support, Philadelphia, PA

DISTRIBUTION: B-List

PRODUCT NAME/NSN: Apron, Father's Day/MR 1162

MANDATORY FOR PURCHASE BY: Military commissaries and exchanges in accordance with the Code of Federal Regulations, Chapter 51, 51-6.4

MANDATORY SOURCE OF SUPPLY: Alphapointe, Kansas City, MO

CONTRACTING ACTIVITY: Defense Commissary Agency, Fort Lee, VA

DISTRIBUTION: C-List

PRODUCT NAMEs/NSNs: Bowl, Cereal and Sipping, Sesame Street/MR 10664

Holder, Juice Box, Sesame Street/MR 10665

MANDATORY FOR PURCHASE BY: Military commissaries and exchanges in accordance with the Code of Federal Regulations, Chapter 51, 51-6.4

MANDATORY SOURCE OF SUPPLY: Winston-Salem Industries for the Blind, Inc., Winston-Salem, NC

CONTRACTING ACTIVITY: Defense Commissary Agency, Fort Lee, VA

DISTRIBUTION: C-List

Barry S. Lineback,
Director, Business Operations.

[FR Doc. 2015-07686 Filed 4-2-15; 8:45 am]

BILLING CODE 6353-01-P